DEPARTMENT OF HEALTH AND HUMAN SERVICES

Centers for Medicare & Medicaid Services

[CMS-9978-N3]

Public Meeting of the Consumer Operated and Oriented Plan (CO-OP) Advisory Board; Meeting Location Change

AGENCY: Centers for Medicare & Medicaid Services (CMS), HHS.

ACTION: Notice of meeting location change.

SUMMARY: This notice announces the change of location of the March 14, 2011, public meeting of the Consumer Operated and Oriented Plan (CO-OP) Advisory Board that was published in the March 2, 2011 Federal Register (76 FR 1184 through 1185). In accordance with the Federal Advisory Committee Act, the meeting is open to the public.

DATES: March 14, 2011, from 8:30 a.m. to 5 p.m., Eastern Standard Time (EST).

ADDRESSES: Meeting Location: Fairmont Hotel, 2401 M Street, Washington, DC 20037.

FOR FURTHER INFORMATION CONTACT: Anne Bollinger, (301) 492-4395. Press inquiries are handled through CCIIO's Press Office at (202) 690-6343.

SUPPLEMENTARY INFORMATION: On March 2, 2011, we published a notice in the Federal Register (76 FR 1184) that announced a March 14, 2011, public meeting for interested parties to assist and advise the Secretary and the Congress on the strategy of the Department of Health and Human Services (the Department) to foster the creation of consumer-operated and oriented qualified nonprofit health insurance issuers. We note that the March 2, 2011 notice provides specific information on the purpose of the meeting and the agenda. Such information remains the same and has not changed with the exception of the meeting location. We refer readers to the previously published notice for such information.

For reasons explained in more detail below, the public meeting of the Consumer Operated and Oriented Plan (CO-OP) Advisory Board, which was to be held at the Madison Hotel, 1177 15th Street, NW, Washington, DC 20005, as announced in the March 2, 2011 Federal Register (76 FR 1184 through 1185), is being relocated. We refer readers to the ADDRESSES section of this notice for the new location of the March 14, 2011 public meeting.

Based upon the late discovery of the reasons why the previously announced location is inadequate, the Center for Consumer Information and Insurance Oversight (CCIIO) finds that exceptional circumstances exist to issue notice of a public meeting with less than 15 calendar days' notice of the change of location of the meeting (see 41 CFR 102-3.150(b)).

The CCIIO has recently learned that the original location of the meeting has proved unsuitable for the following reasons: (1) The space identified in the March 2, 2011 notice is unacceptably small to accommodate the expected public participation; and (2) the presence of protestors, for reasons unrelated to the meeting, anticipated at the entrances to the building will impede access to the meeting by the public, particularly for those with disabilities (41 CFR Sec. 102-3.140). The Department only learned of these impediments to the meeting after the publication of the meeting notice. Because members of the Advisory Board have booked travel arrangements as have members of the public, it is considered less disruptive, more economical, and more consistent with the purposes of public notice to change the location of the meeting to a nearby site rather than change the date of the meeting.

(Catalog of Federal Domestic Assistance Program No. 93.773, Medicare—Hospital Insurance; and Program No. 93.774, Medicare—Supplementary Medical Insurance Program)

Dated: March 3, 2011.
Donald M. Berwick,
Administrator, Centers for Medicare & Medicaid Services.

[FR Doc. 2011-5363 Filed 3-4-11; 4:15 pm]

BILLING CODE 4120-01-P